COMMISSION ON CIVIL RIGHTS

Agenda and Notice of Public Meetings of the South Dakota Advisory Committee

AGENCY: U.S. Commission on Civil Rights.

ACTION: Announcement of public web briefings.

SUMMARY: Notice is hereby given, pursuant to the provisions of the rules and regulations of the U.S. Commission on Civil Rights (Commission), and the Federal Advisory Committee Act (FACA), that the South Dakota State Advisory Committee to the U.S. Commission on Civil Rights will convene briefings on the following Mondays from 3:00 p.m. to 5:30 p.m. CT: September 12, September 26, and October 17, 2022. The purpose of the briefings is to hear from invited presenters on the topic of voting rights and voter access in South Dakota.

DATES: Monday, September 12, 2022, at 3:00 p.m. (CT); Monday, September 26, 2022, at 3:00 p.m. (CT); and Monday, October 17, 2022, at 3:00 p.m. (CT).

Public Web Conference Zoom Links and Phone Numbers (video and audio or phone only):

• Panel II 9/12/22: https://tinyurl.com/465wf8w4; If joining by phone: 1-551-285-1373; Meeting ID: 160 940 6713#.

• Panel III 9/26/22: https://tinyurl.com/bdz88vp4; If joining by phone: 1-551-285-1373; Meeting ID: 160 741 8213num;.

• Panel IV 10/17/22: https://tinyurl.com/bdhb67cm; If joining by phone: 1-551-285-1373; Meeting ID: 160 086 5334#.

• If needed, password for all briefings listed here is as follows: USCCR-SD.

FOR FURTHER INFORMATION CONTACT: Kayla Fajota at kfajota@usccr.gov.

SUPPLEMENTARY INFORMATION: The meeting is available to the public through the web link above. If joining only via phone, callers can expect to incur charges for calls they initiate over wireless lines, and the Commission will not refund any incurred charges. Individuals who are deaf, deafblind and hard of hearing may also follow the proceedings by first calling the Federal Relay Service at 1-800-877-8339 and providing the Service with conference details found through registering at the web link above. To request other accommodations, please email kfajota@usccr.gov at least 10 business days prior to the meeting for which accommodations are requested.

Members of the public are entitled to make comments during the open period at the end of the meeting. Members of the public may also submit written comments; the comments must be received in the Regional Programs Unit within 30 days following the meeting. Written comments may be emailed to Kayla Fajota at kfajota@usccr.gov. Persons who desire additional information may contact the Regional Programs Unit at (202) 809-9618. Records and documents discussed during the meeting will be available for public viewing as they become available at www.facadatabase.gov. Persons interested in the work of this advisory committee are advised to go to the Commission's website, www.usccr.gov, or to contact the Regional Programs Unit at the above phone number or email address.

Agenda

Mondays at 3:00 p.m. CT—9/12, 9/26 and 10/17/22

I. Welcome and Roll Call

II. Opening Remarks

III. Panel II, III, and IV: Voting Rights Briefings—Panelist Presentations

IV. Question and Answer

V. Public Comment

VI. Closing Remarks

VII. Adjournment

Dated: August 15, 2022.
David Mussatt,
Supervisory Chief, Regional Programs Unit.

[FR Doc. 2022-17781 Filed 8-17-22; 8:45 am]

BILLING CODE P